DEPARTMENT OF TRANSPORTATION

National Highway Traffic Safety Administration

[Docket No.: NHTSA-2008-0044]

Reports, Forms, and Recordkeeping Requirements

AGENCY: National Highway

ACTION: Request for public comment on proposed collections of information.

SUMMARY: Before a Federal agency can collect certain information from the public, it must receive approval from the Office of Management and budget (OMB). Under procedures established by the Paperwork Reduction Act of 1995 (PRA), before seeking OMB approval, Federal agencies must solicit public comment on proposed collections of information, including extensions and reinstatements of previously approved collections. This document describes one collection of information or which NHTSA intends to seek OMB approval.

DATES: Comments must be received on or before May 12, 2008.

ADDRESSES: Direct all written comments to U.S. Department of Transportation Dockets, W12-140, 1200 New Jersey Avenue, SE., Washington, DC 20590.

FOR FURTHER INFORMATION CONTACT: Laurie Flaherty, Office of Emergency Medical Services, NTI-140, telephone (202) 366-2705, fax (202) 366-7721, NHTSA, 1200 New Jersey Avenue, SE., Washington, DC 20590.

SUPPLEMENTARY INFORMATION: Under the PRA, before an agency submits a proposed collection of information to OMB for approval, it must first publish a document in the Federal Register providing a 60-day comment period and otherwise consult with members of the public and affected agencies concerning each proposed collection of information. OMB has promulgated regulations describing what must be included in such a document. Under OMB's regulation (at 5 CFR 1320.8(d)), an agency must ask for public comment on the following:

(i) Whether the proposed collection of information is necessary for the proper performance of the functions of the agency, including whether the information will have practical utility;

(ii) The accuracy of the agency's estimate of the burden of the proposed collection of information, including the validity of the methodology and assumptions used;

(iii) How to enhance the quality, utility, and clarity of the information to be collected;

(iv) How to minimize the burden of the collection of information on those who are to respond, including the use of appropriate automated, electronic, mechanical, or other technological collection techniques or other forms of information technology, e.g., permitting electronic submission of responses.

In compliance with these requirements, NHTSA asks for public comments on the following proposed collection of information:

Title: Enhance 911 (E9-1-1) Grant Program.

OMB Control Number:

Requested Expiration Date of Approval: Three years from the approval date.

Type of Request: New collection.

Affected Public: Eligible applicants as defined by the E9-1-1 Act of 2004.

Form Number: HS-217.

Abstract: U.S. Code Title 47, Chapter 8, Subchapter III, Section 942 authorizes the establishment of a joint grant program between the Assistant Secretary of Commerce and the Administrator of the National Highway Traffic Safety Administration (NHTSA), U.S. Department of Transportation to facilitate coordination among all parties involved in the organization of E9-1-1 services and for the establishment of an E9-1-1 Implementation Coordination Office (ICO). The ICO shall develop, collect, and disseminate information concerning practices, procedures, and technology used in the implementation of E9-1-1 services.

Eligibility for a section 942 grant is based upon the entity's ability to certify in its application the following: (1) The entity has coordinated its application with the public safety answering points (PSAP's); (2) The entity has designated a single officer or governmental body to serve as the coordinator of implementation of E9-1-1 services; (3) The entity has established a plan for the coordination of and implementation of E9-1-1 services; (4) The entity has integrated telecommunications services involved in the implementation of E9-1-1 services; (5) No portion of any designated E9-1-1 charges imposed by a State or other taxing jurisdiction within which the applicant is located are being obligated or expected for any purpose other than the purposes for which such charges are designated during the period beginning 180 days immediately preceding the date of application and continuing though the period which the grant funds are available.

The information collected for this grant program is to include application submissions and the certification requirements. An applicant that seeks to qualify must submit an application containing information demonstrating that it satisfies the grant criteria. With respect to each of the criteria selected, the proposed rule would require certain supporting submissions from the State to demonstrate that it meets grant criteria.

Estimated Annual Burden: 5200 hours.

Estimated Number of Respondents: 56.

Comments are invited on: Whether the proposed collection of information is necessary for the proper performance of the functions of the Department, including whether the information will have practical utility; the accuracy of the Department's estimate of the burden of the proposed information collection; ways to enhance the quality, utility and clarity of the information to be collected; and ways to minimize the burden of the collection of information on respondents, including the use of automated collection techniques or other forms of information technology.

Issued on: March 6, 2008.
Marilena Amoni,
Associate Administrator for Research and Program Development.

[FR Doc. 08-1002 Filed 3-10-08; 8:45 am]

BILLING CODE 4910-59-M